DEPARTMENT OF TRANSPORTATION

Federal Aviation Administration

14 CFR Part 39

[Docket No. 2002-NM-10-AD]

RIN 2120-AA64

Airworthiness Directives; Boeing Model 767-200 and -300 Series Airplanes

AGENCY: Federal Aviation Administration, DOT.

ACTION: Notice of proposed rulemaking (NPRM).

SUMMARY: This document proposes the supersedure of an existing airworthiness directive (AD), applicable to certain Boeing Model 767-200 and -300 series airplanes, that currently requires repetitive inspections to find discrepancies of the barrel nuts that attach the vertical fin to body section 48, and follow-on actions. For certain airplanes, the existing AD requires replacement of certain bolts with new bolts. The existing AD also provides for optional terminating actions for the repetitive inspections. This new action would reduce the compliance time for the inspections; change the torque specification; and mandate eventual replacement of all H-11 steel alloy barrel nuts and bolts with Inconel nuts and bolts, which would end the repetitive inspections. The actions specified by the proposed AD are intended to find and fix corroded, cracked, or broken barrel nuts that attach the vertical fin to body section 48, which could result in reduced structural integrity of the vertical fin attachment joint, loss of the vertical fin, and consequent loss of controllability of the airplane. This action is intended to address the identified unsafe condition.

DATES: Comments must be received by September 30, 2002.

ADDRESSES: Submit comments in triplicate to the Federal Aviation Administration (FAA), Transport Airplane Directorate, ANM-114, Attention: Rules Docket No. 2002-NM-10-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-10-AD” in the subject line and need not be submitted in triplicate. Comments sent via the Internet as attached electronic files must be formatted in Microsoft Word 97 for Windows or ASCII text.

The service information referenced in this AD may be obtained from Boeing Commercial Airplane Group, PO Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Technical Information: Suzanne Masterson, Aerospace Engineer, Airframe Branch, ANM-120S, FAA, Seattle Aircraft Certification Office, 1601 Lind Avenue, SW., Renton, Washington 98055-4056; telephone (425) 227-2772; fax (425) 227-1181.

Other Information: Sandi Carli, Airworthiness Directive Technical Editor/Writer; telephone (425) 687-4243, fax (425) 687-4248. Questions or comments may also be sent via the Internet using the following address: sandi.carli@faa.gov. Questions or comments sent via the Internet as attached electronic files must be formatted in Microsoft Word 97 for Windows or ASCII text.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-10-AD.” The postcard will be date stamped and returned to the commenter.

Availability of NPRMs

Any person may obtain a copy of this NPRM by submitting a request to the FAA, Transport Airplane Directorate, ANM-114, Attention: Rules Docket No. 2002-NM-10-AD, 1601 Lind Avenue, SW., Renton, Washington 98055-4056.

Discussion

On September 14, 2001, the FAA issued AD 2001-19-04, amendment 39-12444 (66 FR 48538, September 21, 2001), applicable to certain Boeing Model 767-200 and -300 series airplanes, to require repetitive inspections to find discrepancies of the barrel nuts that attach the vertical fin to body section 48, and follow-on actions. For certain airplanes, that action requires replacement of certain bolts with new bolts. That action also provides for optional terminating actions for the repetitive inspections. The requirements of that AD are necessary to find and fix corroded, cracked, or broken barrel nuts that attach the vertical fin to body section 48, which could result in reduced structural integrity of the vertical fin attachment joint, loss of the vertical fin, and consequent loss of controllability of the airplane.

Actions Since Issuance of Previous Rule

In the preamble to AD 2001-19-04, we specified that the actions required by that AD were considered “interim action” until final action was identified, at which time we may consider further rulemaking. We have now determined that it is necessary to mandate the optional terminating actions, and this proposed AD follows from that determination.

Since the issuance of AD 2001-19-04, we have received information indicating that the torque specification of 2,000 inch-pounds specified in Boeing Service Bulletin 767-53-0085, dated May 14, 1998; and Boeing Alert Service Bulletin 767-53A0085, Revision 1, dated July 1, 1999 (referenced in the existing AD as the sources of service information for accomplishment of the actions), is not sufficient to accurately detect corrosion of the barrel nuts and bolts. Therefore, the revised service information (below) increases the torque specification to between 3,700 and 4,100 inch-pounds, and recommends eventual replacement of all 16 H-11 steel alloy barrel nuts and bolts that attach the vertical fin with Inconel nuts and bolts, for all airplanes.

Explanation of Relevant Service Information

We have reviewed and approved Boeing Service Bulletin 767-53A0085, Revision 2, dated May 2, 2002. The procedures in the service bulletin specify reducing the compliance time for the inspections specified in the existing service information (above); and modifying all airplanes to ensure that H-11 steel alloy barrel nuts and bolts that attach the vertical fin to body section 48 are replaced with Inconel nuts and bolts (in the existing service information, replacement of the bolts was recommended for Group 1 airplanes only). The procedures also specify that the torque check is now between 3,700 and 4,100 inch-pounds applied to each bolt, instead of the 2,000 inch-pounds specified in the existing service information. Accomplishment of the actions specified in the service bulletin is intended to adequately address the identified unsafe condition.

Explanation of Requirements of Proposed Rule

Since an unsafe condition has been identified that is likely to exist or develop on other products of this same type design, the proposed AD would supersede AD 2001-19-04 to continue to require repetitive inspections to find discrepancies of the barrel nuts that attach the vertical fin to body section 48, and follow-on actions. For certain airplanes, the proposed AD would continue to require replacement of certain bolts with new bolts. This new action would reduce the compliance time for the inspections; change the torque specification applied to affected bolts; and mandate the previously optional terminating action by eventual replacement of all H-11 steel alloy barrel nuts and bolts with Inconel nuts and bolts, which would end the repetitive inspections. The actions would be required to be accomplished in accordance with the service bulletin described previously, except as discussed below.

Explanation of Change Made to Existing Requirements

We have changed all references to a “detailed visual inspection” in the existing AD to “detailed inspection” in this proposed action.

Cost Impact

There are approximately 549 airplanes of the affected design in the worldwide fleet. The FAA estimates that 221 airplanes of U.S. registry would be affected by this proposed AD.

The actions that are currently required by AD 2001-19-04 take approximately 2 work hours per airplane to accomplish, at an average labor rate of $60 per work hour. Based on these figures, the cost impact of the currently required actions on U.S. operators is estimated to be $120 per airplane.

The inspections that are proposed in this AD action would take approximately 1 work hour per airplane to accomplish, at an average labor rate of $60 per work hour. Based on these figures, the cost impact of the proposed inspections on U.S. operators is estimated to be $13,260, or $60 per airplane.

The replacement that is proposed in this AD action would take approximately 8 work hours per airplane to accomplish, at an average labor rate of $60 per work hour. Required parts would cost approximately $6,528 per airplane. Based on these figures, the cost impact of the proposed replacement on U.S. operators is estimated to be $1,548,768, or $7,008 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12444 (66 FR 48538, September 21, 2001), and by adding a new airworthiness directive (AD), to read as follows:

Boeing: Docket 2002-NM-10-AD. Supersedes AD 2001-19-04, Amendment 39-12444.

Applicability: Model 767-200 and -300 series airplanes, line numbers 1 through 574 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g)(1) of this AD. The request should include an assessment of the effect of the modification, alteration, or repair on the unsafe condition addressed by this AD; and, if the unsafe condition has not been eliminated, the request should include specific proposed actions to address it.

Compliance: Required as indicated, unless accomplished previously.

To find and fix corroded, cracked, or broken barrel nuts that attach the vertical fin to body section 48, which could result in reduced structural integrity of the vertical fin attachment joint, loss of the vertical fin, and consequent loss of controllability of the airplane; accomplish the following:

Restatement of Requirements of AD 2001-19-04

Internal/External Detailed Inspections

(a) Do internal and external detailed inspections of the barrel nuts at the 16 locations that attach the vertical fin to body section 48 to find discrepancies (i.e., cracked or damaged sealant, signs of corrosion damage, cracked or broken barrel nuts). Do the inspections at the times specified in paragraphs (a)(1) and (a)(2) of this AD, as applicable; per Part 1 of the Accomplishment Instructions of Boeing Service Bulletin 767-53-0085, dated May 14, 1998; or Boeing Alert Service Bulletin 767-53A0085, Revision 1, dated July 1, 1999; or Revision 2, dated May 2, 2002.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) For airplanes on which the inspections specified in paragraph (a) of this AD have been done within the last 3 years per Boeing 767 Maintenance Planning Document (MPD) D622T001, Items 5380-311-021 and 5380-312-021: Do the inspections at the later of the times specified in paragraphs (a)(1)(i) and (a)(1)(ii) of this AD.

(i) Within 3 years or 6,000 flight cycles after doing the most recent inspection per the MPD, whichever comes first.

(ii) Within 45 days after October 9, 2001 (the effective date AD 2001-19-04, amendment 39-12444).

(2) For airplanes on which the inspections specified in paragraph (a) of this AD have NOT been done within the last 3 years per Boeing 767 MPD D622T001, Items 5380-311-021 and 5380-312-021: Do the inspections within 45 days after October 9, 2001.

Follow-On Actions

(b) If no discrepancy is found during any inspection specified in paragraph (a) of this AD: Before further flight, do a torque check of each of the 16 bolts in the barrel nuts that attach the vertical fin to body section 48 to determine if any bolt turns, per Part 2 of the Accomplishment Instructions of Boeing Service Bulletin 767-53-0085, dated May 14, 1998; or Boeing Alert Service Bulletin 767-53A0085, Revision 1, dated July 1, 1999; or Revision 2, dated May 2, 2002.

(1) If no bolt turns: Repeat the inspections required by paragraph (a) of this AD (and applicable follow-on actions) every 3 years or 6,000 flight cycles, whichever comes first; until paragraphs (d) and (e) of this AD are done.

(2) If any bolt turns: Before further flight, do the actions specified in paragraphs (b)(2)(i) and (b)(2)(ii) of this AD, as applicable. Then repeat the inspections required by paragraph (a) of this AD (and applicable follow-on actions) every 3 years or 6,000 flight cycles, whichever comes first; until paragraphs (d) and (e) of this AD are done.

(i) For all airplanes: Replace the barrel nut at that bolt with a new, Inconel barrel nut per Part 3 of the Accomplishment Instructions of the service bulletin. No further action is required for that barrel nut only.

(ii) For Group 1 airplanes: If an H-11 steel alloy bolt is installed with the affected barrel nut, replace the bolt with a new, Inconel bolt per Figure 5 of the Accomplishment Instructions of the service bulletin. No further action is required for that bolt only.

(c) If any discrepancy of any barrel nut is found during any inspection specified in paragraph (a) or (d) of this AD: Before further flight, do the actions specified in paragraphs (c)(1) and (c)(2) of this AD, as applicable.

(1) For all airplanes: Replace the affected barrel nut with a new, Inconel barrel nut per Part 3 of the Accomplishment Instructions of Boeing Service Bulletin 767-53-0085, dated May 14, 1998; or Boeing Alert Service Bulletin 767-53A0085, Revision 1, dated July 1, 1999; or Revision 2, dated May 2, 2002. No further action is required for that barrel nut only.

(2) For Group 1 airplanes: If an H-11 steel alloy bolt is installed with the affected barrel nut, replace the bolt with a new, Inconel bolt per Figure 5 of the Accomplishment Instructions of the service bulletin. No further action is required for that bolt only.

New Requirements of this AD

Detailed Inspection/Torque Check

(d) Within 18 months after doing the initial inspections required by paragraph (a) of this AD, or within 90 days after the effective date of this AD, whichever is later: Do internal and external detailed inspections and a torque check (between 3,700 and 4,100 inch-pounds of torque) of the barrel nuts at the 16 locations that attach the vertical fin to body section 48 to find discrepancies (i.e., cracked or damaged sealant, signs of corrosion damage, cracked or broken barrel nuts) per Boeing Service Bulletin 767-53A0085, Revision 2, dated May 2, 2002. Repeat the inspections and check after that every 18 months until paragraph (e) of this AD is done. As of the effective date of this AD, only Revision 2 of the service bulletin may be used.

Note 3: Accomplishment of the inspections and replacements before the effective date of this AD per Boeing Service Bulletin 767-53-0085, dated May 14, 1998; or Boeing Alert Service Bulletin 767-53A0085, Revision 1, dated July 1, 1999; is considered acceptable for compliance with the applicable actions specified in paragraphs (a), (b), and (c) of this AD.

Terminating Action

(e) Within 36 months after the effective date of this AD: Replace all 16 H-11 steel alloy barrel nuts and bolts that attach the vertical fin to body section 48, with Inconel barrel nuts and bolts, per Boeing Service Bulletin 767-53A0085, Revision 2, dated May 2, 2002. Such replacement ends the repetitive inspections required by this AD.

Spares

(f) As of the effective date of this AD: No person shall install, on any airplane, an Inconel vertical fin attach bolt, unless an Inconel barrel nut is installed at the same location; nor shall any person install an H-11 steel alloy attachment nut or bolt on the vertical fin on any airplane.

Alternative Methods of Compliance

(g)(1) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

(2) Alternative methods of compliance, approved previously in accordance with AD 2001-19-04, amendment 39-12444, are approved as alternative methods of compliance with paragraph (a)(1) of this AD.

Note 4: Information concerning the existence of approved alternative methods of compliance with this AD, if any, may be obtained from the Seattle ACO.

Special Flight Permits

(h) Special flight permits may be issued in accordance with §§ 21.197 and 21.199 of the Federal Aviation Regulations (14 CFR 21.197 and 21.199) to operate the airplane to a location where the requirements of this AD can be accomplished.

Issued in Renton, Washington, on August 9, 2002.
Vi Lipski,
Manager Transport Airplane Directorate, Aircraft Certification Service.

[FR Doc. 02-20709 Filed 8-15-02; 8:45 am]

BILLING CODE 4910-13-P